DEPARTMENT OF AGRICULTURE

Food and Nutrition Service

Agency Information Collection Activities: Proposed Collection; Comment Request—Information Collection for the Child and Adult Care Food Program

AGENCY: Food and Nutrition Service, USDA.

ACTION: Notice.

SUMMARY: In accordance with the Paperwork Reduction Act of 1995, this notice invites the general public and other public agencies to comment on this proposed information collection. This collection is a revision of a currently approved information collection.

DATES: Written comments must be received on or before February 24, 2020.

ADDRESSES: Comments may be sent to Andrea Farmer, Community Meals Branch, Policy and Program Development Division, Child Nutrition Programs, Food and Nutrition Service, U.S. Department of Agriculture, 1320 Braddock Place, Alexandria, VA 22314. Comments may also be submitted via fax to the attention of Andrea Farmer at 703-305-6294 or via email to Andrea.Farmer@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Andrea Farmer, Community Meals Branch, Policy and Program Development Division, Child Nutrition Programs, Food and Nutrition Service, U.S. Department of Agriculture, 1320 Braddock Place, Alexandria, VA 22314.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 226, Child and Adult Care Food Program (CACFP).

Form Number: None.

OMB Number: 0584-0055.

Expiration Date: February 29, 2020.

Type of Request: Revision of a currently approved collection.

Abstract: Section 17 of the Richard B. Russell National School Lunch Act (NSLA), as amended, (42 U.S.C. 1766), authorizes the CACFP to provide cash reimbursement and commodity assistance, on a per meal basis, for food service to children in nonresidential child care centers and family day care homes, and to eligible adults in nonresidential adult day care centers. The USDA, through FNS, has established application, monitoring, and reporting requirements to manage the CACFP effectively. The purpose of this submission to OMB is to obtain approval to continue the discussed information collection. States and service institutions participating in the CACFP will submit to FNS account and record information reflecting their efforts to comply with statutory and regulatory Program requirements. Examples of data collected and reported with this collection include, but are not limited to: Applications and supporting documents; records of enrollment; records supporting the free and reduced price eligibility determinations; daily records indicating numbers of program participants in attendance and the number of meals served by type and category; and receipts, invoices and other records of CACFP costs and documentation of non-profit operation of food service.

This is a revision of a currently approved information collection (ICR). Section 17 of the National School Lunch Act, as amended (42 U.S.C. 1766), authorizes the Child and Adult Care Program (CACFP). Under this Program, the Secretary of Agriculture is authorized to provide cash reimbursement and commodity assistance, on a per meal basis, for food service to children in nonresidential child care centers and family or group day care homes, and to eligible adults in nonresidential adult day care centers. This renewal revises reporting and recordkeeping burden and adds public disclosure burden not captured in the previous ICR.

Reporting and recordkeeping burden had to be adjusted because of decreases in the number of sponsoring organizations and facilities, and an increase in the number of enrolled participants who are required to submit information. In order to ensure that the ICR adequately represents the reporting burden associated with operating CACFP, FNS included the requirement that State agencies must comply with policy, instructions, guidance, and handbooks issued by USDA. Similarly, FNS also adjusted the burden hours associated with reviewing materials to comply with all regulations issued by USDA for institutions. In the past, reviewing policy, instructions, guidance, and handbooks were burden implied with implementing CACFP, however, it was not included in the burden table. Adding the hours it would take to review materials is important because it allows USDA to capture the burden of operating CACFP. FNS also separated out burden associated with the serious deficiency process for new, renewing, and participating institutions. Finally, in this revision, FNS included the reporting burden for State agencies and institutions associated with submitting documents of corrective action and other records related to operating the program such as administrative budget, notice of proposed suspension, and notice of corrective actions.

In this renewal, FNS added public disclosure burden associated with requirements regarding public notification about the CACFP, which have been a part of the CACFP regulations but were not included in the burden estimates for the currently approved information collection. FNS also included public disclosure burden for State agencies per policy guidance, which allows State agencies to issue media releases on behalf of the institutions. Public disclosure burden hours for State agencies were not captured in the past. However, through feedback from State agencies, FNS adjusted the burden hours because FNS learned that many State agencies issue a public notice on behalf of their institutions.

The current OMB inventory for this collection includes reporting and recordkeeping burden that consists of 2,481,136 hours. As explained above, due to a combination of decreased respondents and additional public disclosure and reporting requirements, program burden increased from 2,481,136 hours to 3,703,593 hours. The recordkeeping burden decreased from 610,724 hours to 568,460 hours. In contrast, the reporting burden increased from 1,870,412 hours to 3,132,359 hours, and the public disclosure burden increased form zero hours to 2,773 hours. The average burden per response and the annual burden hours for reporting and recordkeeping are explained below and summarized in the charts that follow.

Affected Public: Respondent groups identified include: (1) 56 State agencies, (2) 26,002 institutions, (3) 165,717 facilities (includes 96,778 family day care homes and 68,939 sponsored center facilities), and (4) 3,240,194 households.

Estimated Number of Respondents: 3,443,062.

Estimated Number of Responses per Respondent: 4.081.

Estimated Total Annual Responses: 14,049,884.920.

Estimated Time per Response: 0.264 hrs.

Estimated Total Annual Burden on Respondents: 3,703,593.386 hrs.

Current OMB Inventory: 2,481,135.751 hrs.

Difference (Burden Revisions Requested): 1,222,457.64 hrs.

Refer to Table 1 below for estimated total annual burden for each type of respondent.

Table 1—Public Disclosure Burden
Respondent | Estimated number of respondents | Responses annually per respondent | Total annual responses | Estimated avg. number of hours per response | Estimated total hours
Reporting Burden:
State agencies/Local/Tribal Governments | 56 | 568.161 | 31,817.000 | 0.134 | 4,248.562
Institution | 26,002 | 30.393 | 790,266.000 | 1.854 | 1,465,046.812
Businesses (Facility) | 165,717 | 12.000 | 1,988,604.000 | 0.396 | 787,485.000
Household | 3,240,194 | 3.256 | 10,549,145.920 | 0.083 | 875,579.111
Total Estimated Reporting Burden | 3,431,969 | 3.893 | 13,359,832.920 | 0.234 | 3,132,359.486
Recordkeeping Burden:
State agencies/Local/Tribal Governments | 56 | 27.000 | 1,512.000 | 1.370 | 2,072.000
Institutions | 22,130 | 8.147 | 180,296.000 | 0.384 | 69,237.650
Businesses (Facility) | 165,717 | 3.000 | 497,151.000 | 1.000 | 497,151.000
Total Estimated Recordkeeping Burden | 187,903 | 3.613 | 678,959.000 | 0.837 | 568,460.650
Public Disclosure Burden:
State agencies/Local/Tribal Governments | 28 | 1.000 | 28.000 | 0.250 | 7.000
Institution | 11,065 | 1.000 | 11,065.000 | 0.250 | 2,766.250
Total Estimated Public Disclosure Burden | 11,093 | 1.000 | 11,093.000 | 0.250 | 2,773.250
Total of Reporting, Recordkeeping, and Public Disclosure:
Total | 3,443,062 | 4.081 | 14,049,884.920 | 0.264 | 3,703,593.386

Dated: December 16, 2019.
Pamilyn Miller,
Administrator, Food and Nutrition Service.

[FR Doc. 2019-27764 Filed 12-23-19; 8:45 am]

BILLING CODE 3410-30-P